DEPARTMENT OF COMMERCE

International Trade Administration

Initiation of Antidumping and Countervailing Duty Administrative Reviews

AGENCY: Import Administration, International Trade Administration, Department of Commerce.

ACTION: Notice of initiation of antidumping and countervailing duty administrative reviews.

SUMMARY: The Department of Commerce has received requests to conduct administrative reviews of various antidumping and countervailing duty orders and findings with March anniversary dates. In accordance with the Department's regulations, we are initiating those administrative reviews.

EFFECTIVE DATE: May 1, 2000.

FOR FURTHER INFORMATION CONTACT: Holly A. Kuga, Office of AD/CVD Enforcement, Import Administration, International Trade Administration, U.S. Department of Commerce, 14th Street and Constitution Avenue, NW, Washington, DC 20230, telephone: (202) 482-4737.

SUPPLEMENTARY INFORMATION:

Background

The Department has received timely requests, in accordance with 19 CFR 351.213(b) (1997), for administrative reviews of various antidumping and countervailing duty orders and findings with March anniversary dates.

Initiation of Reviews

In accordance with section 19 CFR 351.221(c)(1)(i), we are initiating administrative reviews of the following antidumping and countervailing duty orders and findings. We intend to issue the final results of these reviews not later than March 31, 2001.

| Period to be reviewed
Antidumping duty proceedings
Canada: Iron Construction Castings, A-122-503 | 3/1/99-2/29/00
Bibby-Ste. Croix
Laperle Foundry
Mexico: Steel Wire Rope, A-201-806 | 3/1/99-12/31/99
Aceros Camesa, S.A. de C.V.
Cablesa, S.A. de C.V.
Thailand: Certain Welded Carbon Steel Pipes and Tubes, A-549-502 | 3/1/99-2/29/00
Saha Thai Steel Pipe Company, Ltd.
Countervailing Duty Proceedings
Pakistan: Shop Towels, C-535-001 | 1/1/99-12/31/99
M/s. Mehtabi Towel Mills (Pvt.) Ltd. Karachi
M/s. Aqil Textile Industries, Karachi
M/s. Quality Linen Supply Corp., Karachi
M/s. Shahi Textiles, Karachi
M/s. Jawwad Industries, Karachi
M/s. Silver Textile Factory, Karachi
M/s. Fine Fabrico, Karachi
M/s. United Towel Exporters, Karachi
M/s. R.I. Weaving, Karachi
M/s. Universal Linen, Karachi
M/s. Ejaz Linen, Karachi
M/s. Ahmed & Co., Karachi
Suspension Agreements
None.

During any administrative review covering all or part of a period falling between the first and second or third and fourth anniversary of the publication of an antidumping duty order under section 351.211 or a determination under section 351.218(d) (sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

For transition orders defined in section 751(c)(6) of the Act, the Secretary will apply paragraph (j)(1) of this section to any administrative review initiated in 1998 (19 CFR 351.213(j)(1-2).

Interested parties must submit applications for disclosure under administrative protective orders in accordance with 19 CFR 351.305.

These initiations and this notice are in accordance with section 751(a) of the Tariff Act of 193 amended (19 U.S.C. 1675(a)), and 19 CFR 351.221(c)(1)(i).

Dated: April 24, 2000.
Holly A. Kuga,
Acting Deputy Assistant Secretary, Group II for Import Administration.

[FR Doc. 00-10690 Filed 4-28-00; 8:45 am]

BILLING CODE 3510-DS-M